FEDERAL COMMUNICATIONS COMMISSION

47 CFR Part 74

[MB Docket No. 18-119; FCC 19-40]

FM Translator Interference

AGENCY: Federal Communications Commission.

ACTION: Final rule; announcement of effective date.

SUMMARY: In this document, the Federal Communications Commission (Commission) announces that the Office of Management and Budget (OMB) has approved, for a period of three years, information collection requirements adopted in the Commission's Amendment of Part 74 of the Commission's Rules Regarding FM Translator Interference, MB Dkt. No. 18-119, FCC 19-40, (FM Translator Interference Report and Order). This document is consistent with the FM Translator Interference Report and Order, which stated that the Commission would publish a document in the Federal Register announcing OMB approval and the effective date of the rules.

DATES: The rule amendments to 47 CFR 74.1203(a)(3) and 47 CFR 74.1204(f), published at 84 FR 27734 on June 14, 2019 (corrected at 84 FR 29806 (June 25, 2019)), are effective on August 13, 2019.

FOR FURTHER INFORMATION CONTACT: Cathy Williams by email at Cathy.Williams@fcc.gov and telephone at (202) 418-2918.

SUPPLEMENTARY INFORMATION: This document announces that OMB approved the new or modified information collection requirements contained in 47 CFR 74.1203(a)(3) and 47 CFR 74.1204(f), as adopted in the FM Translator Interference Report and Order, FCC 19-40, published at 84 FR 27734 (date correction published at 84 FR 29806 (June 25, 2019)). OMB approved OMB Control Number 3060-1263 on July 16, 2019, and OMB Control Number 3060-0405 on July 17, 2019. The Commission publishes this notice as an announcement of the effective date of those information collection requirements.

Synopsis

As required by the Paperwork Reduction Act of 1995 (44 U.S.C. 3507), the FCC is notifying the public that it received OMB approval on July 16, 2019, and on July 17, 2019, for the new or modified information collection requirements contained in 47 CFR 74.1203(a)(3) and 47 CFR 74.1204(f), as amended, in the FM Translator Interference Report and Order, MB Dkt. No. 18-119 FCC 19-40 (rel. May 9, 2019). Under 5 CFR part 1320, an agency may not conduct or sponsor a collection of information unless it displays a current, valid OMB Control Number. No person shall be subject to any penalty for failing to comply with a collection of information subject to the Paperwork Reduction Act that does not display a current, valid OMB Control Number. The OMB Control Numbers are 3060-1263 and 3060-0405. The foregoing notice is required by the Paperwork Reduction Act of 1995, Public Law 104-13, October 1, 1995, and 44 U.S.C. 3507.

The total annual reporting burdens and costs for the respondents are as follows:

OMB Control Number: 3060-1263.

OMB Approval Date: July 16, 2019.

OMB Expiration Date: July 31, 2022.

Title: Sections 74.1203(a)(3), Interference, and 74.1204(f), Protection of FM broadcast, FM Translator and LP100 stations.

Respondents: Business or other for-profit entities; Not-for-profit institutions; State, Local or Tribal Government.

Number of Respondents and Responses: 270 respondents; 270 responses.

Estimated Time per Response: 3-5 hours.

Frequency of Response: Third party disclosure requirement and on occasion reporting requirement.

Total Annual Burden: 1,080 hours.

Total Annual Cost: $924,100.

Obligation to Respond: Required to obtain or retain benefits. The statutory authority for this collection of information is contained in Sections 1, 4(i), 4(j), 301, 303, 307, 308, 309, 316, and 319 of the Communications Act, 47 U.S.C. 151, 154(i), 154(j), 301, 303, 307, 308, 309, 316, and 319.

Nature and Extent of Confidentiality: There is no need for confidentiality with this collection of information.

Privacy Act Impact Assessment: No impact(s).

Needs and Uses: On May 9, 2019, the Commission adopted a Report and Order, Amendment of Part 74 of the Commission's Rules Regarding FM Translator Interference, FCC 19-40, MB Docket No. 18-119 (FM Translator Interference Report and Order), adopting proposals to streamline the rules relating to interference caused by FM translators and to expedite the translator interference complaint resolution process. These measures are designed to limit or avoid protracted and contentious interference disputes, provide translator licensees additional investment certainty and flexibility to remediate interference, and provide affected stations earlier and expedited resolution of interference complaints. Under this new information collection, the following information collection requirements require OMB approval.

Specifically, the FM Translator Interference Report and Order pertains to this new Information Collection as it codifies the translator interference listener complaint requirements under section 74.1201(k) and sections 74.1203(a)(3) (actual interference) and 74.1204(f) (predicted interference) of the rules. The Commission defines the requirements for a listener complaint submitted with a translator interference claim in section 74.1201(k) as a complaint that is signed and dated by the listener and contains the following information: (1) The complainant's full name, address, and phone number; (2) a clear, concise, and accurate description of the location where the interference is alleged to occur; (3) a statement that the complainant listens to the desired station using an over-the-air signal at least twice a month, to demonstrate the complainant is a regular listener; and (4) a statement that the complainant has no legal, employment, financial, or familial affiliation or relationship with the desired station, to demonstrate the complainant is disinterested. Electronic signatures are acceptable for this purpose.

The FM Translator Interference Report and Order establishes a minimum number of listener complaints ranging from 6 to 25 depending on the population served within the protected contour of the complaining station. The Commission explains that a proportionate approach, which was supported by multiple commenters, would be fairer and more effective than a single minimum number for all complaining stations. In addition to the required minimum number of valid listener statements, a station submitting a translator interference claim package pursuant to either section 74.1203(a)(3) or 74.1204(f) must include: (1) A map plotting the specific locations of the alleged interference in relation to the 45 dBu contour of the complaining station; (2) a statement that the complaining station is operating within its licensed parameters; (3) a statement that the complaining station licensee has used commercially reasonable efforts to inform the relevant translator licensee of the claimed interference and attempted private resolution; and (4) U/D data demonstrating that at each listener location the ratio of undesired to desired signal strength exceeds −20 dB for co-channel situations, −6 dB for first-adjacent channel situations or 40 dB for second- or third-adjacent channel situations, calculated using the Commission's standard contour prediction methodology set out in Section 73.313.

In the FM Translator Interference Report and Order, the Commission outlines two paths for resolving interference if the translator decides to continue operation on its original channel. First, a translator operator may resolve each listener complaint by working with a willing listener to resolve reception issues. The translator operator must then document and certify that the desired station can now be heard on the listener's receiver, i.e., that the adjustment to or replacement of the listener's receiving equipment actually resolved the interference. Second, the translator operator may work with the complaining station to resolve station signal interference issues using rule-compliant suitable technical techniques. (The Commission provides flexibility to the parties to determine the testing parameters for demonstrating that the interference has been resolved, for example, the use of on-off testing or field strength measurements.) Once agreement is reached, the translator operator submits the agreed-upon remediation showing to the Commission.

OMB Control Number: 3060-0405.

OMB Approval Date: July 17, 2019.

OMB Expiration Date: July 31, 2022.

Title: Form 2100, Schedule 349—FM Translator or FM Booster Station Construction Permit Application.

Form Number: FCC Form 2100, Schedule 349.

Respondents: Business or other for-profit entities; State, Local or Tribal Government; Not-for-profit institutions.

Number of Respondents and Responses: 1,350 respondents; 2,775 responses.

Estimated Time per Response: 1-1.5 hours.

Frequency of Response: On occasion reporting requirement; Third party disclosure requirement.

Obligation to Respond: Required to obtain or retain benefits. The statutory authority for this information collection is contained in Sections 154(i), 303 and 308 of the Communications Act of 1934, as amended.

Total Annual Burden: 3,775 hours.

Total Annual Cost: $3,950,725.

Privacy Act Impact Assessment: No impact(s).

Nature and Extent of Confidentiality: There is no need for confidentiality with this information collection.

Needs and Uses: On May 9, 2019, the Commission adopted a Report and Order, Amendment of Part 74 of the Commission's Rules Regarding FM Translator Interference, FCC 19-40, MB Docket No. 18-119, adopting proposals to streamline the rules relating to interference caused by FM translators and to expedite the translator interference complaint resolution process. These measures are designed to limit or avoid protracted and contentious interference disputes, provide translator licensees additional investment certainty and flexibility to remediate interference, and provide affected stations earlier and expedited resolution of interference complaints.

In the FM Translator Interference Report and Order, the Commission adopted its proposal to offer additional flexibility to FM translator licensees, by allowing them to resolve interference issues using the effective and low-cost method of submitting a minor modification application to change frequency to any available same-band FM channel. This method will reduce the number of opposition pleadings filed and the obligation to defend an interference claim.

Specifically, the FM Translator Interference Report and Order pertains to this Information Collection as it modifies Section 74.1233(a)(1) of the rules to define an FM translator station's change to any available same-band frequency using a minor modification application, filed using FCC Form 349, upon a showing of interference to or from any other broadcast station. Prior to the FM Translator Interference Report and Order, if an existing FM translator caused actual interference, as prohibited by Section 74.1203(a), it was limited to remedial channel changes, filing FCC Form 349 as a minor change application, to only first, second, or third adjacent, or IF channels. A change to any other channel was considered a major change on FCC Form 349, which could only be submitted during a filing window. The FM Translator Interference Report and Order enables more translator stations to cure interference by simply changing channels within the same band by filing Form 349 as a minor change application, rather than other costlier and less efficient remedies.

Federal Communications Commission.
Marlene Dortch,
Secretary.

[FR Doc. 2019-16334 Filed 7-30-19; 8:45 am]

BILLING CODE 6712-01-P